DEPARTMENT OF TRANSPORTATION

National Highway Traffic Safety Administration

[Docket No. NHTSA-2017-0101; Notice 1]

AGC Glass Company North America, Receipt of Petition for Decision of Inconsequential Noncompliance

AGENCY: National Highway Traffic Safety Administration (NHTSA), U.S. Department of Transportation (DOT).

ACTION: Receipt of petition.

SUMMARY: AGC Glass Company North America (d.b.a. AGC Automotive Americas Co. “AGC”), has determined that certain rear privacy glass manufactured as replacement glass for certain model year (MY) 2013-2017 Jeep Compass motor vehicles does not fully comply with Federal Motor Vehicle Safety Standard (FMVSS) No. 205, Glazing Materials. AGC filed a noncompliance report dated October 13, 2017. AGC also petitioned NHTSA on November 8, 2017, for a decision that the subject noncompliance is inconsequential as it relates to motor vehicle safety.

DATES: The closing date for comments on the petition is May 11, 2018.

ADDRESSES: Interested persons are invited to submit written data, views, and arguments on this petition. Comments must refer to the docket and notice number cited in the title of this notice and submitted by any of the following methods:

• Mail: Send comments by mail addressed to U.S. Department of Transportation, Docket Operations, M-30, West Building Ground Floor, Room W12-140, 1200 New Jersey Avenue SE, Washington, DC 20590.

• Hand Delivery: Deliver comments by hand to U.S. Department of Transportation, Docket Operations, M-30, West Building Ground Floor, Room W12-140, 1200 New Jersey Avenue SE, Washington, DC 20590. The Docket Section is open on weekdays from 10 a.m. to 5 p.m. except Federal Holidays.

• Electronically: Submit comments electronically by logging onto the Federal Docket Management System (FDMS) website at https://www.regulations.gov/. Follow the online instructions for submitting comments.

• Comments may also be faxed to (202) 493-2251.

Comments must be written in the English language, and be no greater than 15 pages in length, although there is no limit to the length of necessary attachments to the comments. If comments are submitted in hard copy form, please ensure that two copies are provided. If you wish to receive confirmation that comments you have submitted by mail were received, please enclose a stamped, self-addressed postcard with the comments. Note that all comments received will be posted without change to https://www.regulations.gov, including any personal information provided.

All comments and supporting materials received before the close of business on the closing date indicated above will be filed in the docket and will be considered. All comments and supporting materials received after the closing date will also be filed and will be considered to the fullest extent possible.

When the petition is granted or denied, notice of the decision will also be published in the Federal Register pursuant to the authority indicated at the end of this notice.

All comments, background documentation, and supporting materials submitted to the docket may be viewed by anyone at the address and times given above. The documents may also be viewed on the internet at https://www.regulations.gov by following the online instructions for accessing the dockets. The docket ID number for this petition is shown in the heading of this notice.

DOT's complete Privacy Act Statement is available for review in a Federal Register notice published on April 11, 2000, (65 FR 19477-78).

SUPPLEMENTARY INFORMATION:

I. Overview: AGC, has determined that certain rear privacy glass manufactured as replacement glass for certain MY 2013-2017 Jeep Compass motor vehicles does not fully comply with FMVSS No. 205, Glazing Materials (49 CFR 571.205). AGC filed a noncompliance report dated October 13, 2017, pursuant to 49 CFR part 573, Defect and Noncompliance Responsibility and Reports. AGC also petitioned NHTSA on November 8, 2017, pursuant to 49 U.S.C. 30118(d) and 30120(h) and 49 CFR part 556, for an exemption from the notification and remedy requirements of 49 U.S.C. Chapter 301 on the basis that this noncompliance is inconsequential as it relates to motor vehicle safety.

This notice of receipt of AGC's petition is published under 49 U.S.C. 30118 and 30120 and does not represent any agency decision or other exercise of judgment concerning the merits of the petition.

II. Equipment Involved: Approximately 5,000 replacement privacy glass parts manufactured for replacement of the rear liftgate glass in certain MY 2013-2017 Jeep Compass motor vehicles and manufactured between January 16, 2013, and June 30, 2017, are potentially involved.

III. Noncompliance: AGC explains that the noncompliance is that the subject rear privacy glass parts do not fully comply with paragraph S6 of FMVSS No. 205. Specifically, the replacement rear privacy glass has the AS2 (solar glazing) marking when it should have been marked with the AS3 (privacy glazing) marking.

IV. Rule Requirements: Paragraphs S6, S6.1(a)(b), S6.2, and S6.3(a)(b) of FMVSS No. 205 include the requirements relevant to this petition:

• A Prime glazing material manufacturer must certify, in accordance with 49 U.S.C. 30115, each piece of glazing material to which this standard applies is designed as:

A. a component of any specific motor vehicle or camper; or

B. to be cut into components for use in motor vehicles or items of motor vehicle equipment.

• A prime glazing manufacturer certifies its glazing by adding to the marks required by section 7 of ANSI/SAE Z26.1-1996, in letters and numerals of the same size, the symbol “DOT” and a manufacturer's code mark that NHTSA assigns to the manufacturer.

• NHTSA will assign a code mark to a manufacturer after the manufacturer submits a written request to the Office of Vehicle Safety Compliance, National Highway Traffic Safety Administration. The request must include the company name, address, and a statement from the manufacturer certifying its status as a prime glazing manufacturer as defined in paragraph S4.

• A manufacturer or distributor who cuts a section of glazing material to which this standard applies, for use in a motor vehicle or camper, must:

A. mark that material in accordance with section 7 of ANSI/SAE Z26.1-1996; and

B. certify that its product complies with this standard in accordance with 49 U.S.C. 30115.

V. Summary of AGC's Petition: AGC states that after discovering this inadvertent error, AGC launched an investigation internally and with its core customers who may have received parts with this incorrect “AS2” logo mark to determine if this error occurred on more than one occasion and if the parts had been introduced into the stream of commerce. AGC performed testing on the parts it had in its possession that were not shipped to any customer to confirm the glass met all other FMVSSs. The glass met those standards. In addition, AGC's primary customer for these parts, conducted its own testing of parts that it had in their possession with the incorrect “AS2” mark in the logo. Those tests also confirmed that the AGC parts with the incorrect “AS2” mark met all other required standards. The only error was including the “AS2” mark rather than the correct “AS3” mark in the logo. Thereafter, AGC and its customers went through an investigation on how many of these parts with the incorrect logo may have been shipped and/or used for replacement glass, and whether a Notice of Noncompliance had to be filed with NHTSA as a result. Following this investigation and numerous meetings with the customers, AGC determined that parts with the incorrect “AS2” mark had been shipped and installed in vehicles and that a Notice of Noncompliance Report had to be filed with NHTSA.

AGC described the subject noncompliance and stated its belief that the noncompliance is inconsequential as it relates to motor vehicle safety.

In support of its petition, AGC submitted the following reasoning:

1. The only error in the logo mark was including the incorrect “AS2” standard. The logo and the parts were otherwise fully compliant. All other information was correct. The “AS3” mark relates to meeting certain light transmission requirements for privacy glass. The glass met those requirements as confirmed by both AGC and its primary customer, FCA US LLC. The glass also met all other applicable Federal Motor Vehicle Safety Standards. This error did not change the character of the glass or its performance. It was a simple marking error and will not in any way impact or affect motor vehicle safety. AGC produced up to 5,000 parts to be installed as replacement glass over the relevant time period. As soon as AGC found the potential error, it was immediately corrected by replacing the print screen that included the incorrect “AS2” mark and instead using a print screen which included the correct “AS3” mark in the logo. No parts are produced today for these model vehicles for replacement glass without the correct “AS3” mark in the logo. All parts which AGC had in its possession and which were confirmed a customer still had that were not already installed were destroyed or returned to AGC.

There is nothing that would affect or impact vehicle safety resulting from this erroneous “AS2” mark being included in the logo and this error should be classified as inconsequential to motor vehicle safety.

2. The logo error will not mislead or affect consumers. Consumers would never look at a logo and know or understand that privacy glass with an “AS2” logo should have an “AS3” mark instead in that logo. Only someone trained in the intricate requirements of ANSI and the differences in light transmission between a part meeting the “AS3” standard versus a part meeting the “AS2” standard would know whether including the “AS2” mark was an error or not. Therefore, the fact there are vehicles on the road which have the incorrect “AS2” mark in the logo will not be misleading nor should it require any of those parts to be replaced, since the consumer will not know the difference, will not be misled by looking at the logo mark for this part, there will be no confusion about the performance or compliance of the parts with all applicable FMVSSs, and the error does not affect the safety of the vehicle. Every consumer that had their rear lift gate replaced with privacy glass that included the logo with the incorrect “AS2” mark still has exactly what they expected to receive and paid for regardless of this error—rear privacy glass for their Jeep Compass that does not pose any safety risk to them or others who may ride on their vehicle.

AGC concluded by expressing the belief that the subject noncompliance is inconsequential as it relates to motor vehicle safety, and that its petition to be exempted from providing notification of the noncompliance, as required by 49 U.S.C. 30118, and a remedy for the noncompliance, as required by 49 U.S.C. 30120, should be granted.

AGC's complete petition and all supporting documents are available by logging onto the Federal Docket Management System (FDMS) website at: https://www.regulations.gov and following the online search instructions to locate the docket number listed in the title of this notice.

NHTSA notes that the statutory provisions (49 U.S.C. 30118(d) and 30120(h)) that permit manufacturers to file petitions for a determination of inconsequentiality allow NHTSA to exempt manufacturers only from the duties found in sections 30118 and 30120, respectively, to notify owners, purchasers, and dealers of a defect or noncompliance and to remedy the defect or noncompliance. Therefore, any decision on this petition only applies to the subject privacy glass parts that AGC no longer controlled at the time it determined that the noncompliance existed. However, any decision on this petition does not relieve equipment distributors and dealers of the prohibitions on the sale, offer for sale, or introduction or delivery for introduction into interstate commerce of the noncompliant privacy glass parts under their control after AGC notified them that the subject noncompliance existed.

Related Submissions: FCA US LLC (FCA US) also filed an inconsequential noncompliance petition with NHTSA for 287,064 MY 2013-2017 Jeep Compass motor vehicles, which were equipped and offered for sale with noncompliant privacy glass produced by AGC. Refer to Docket No. NHTSA-2017-0098.

Authority: (49 U.S.C. 30118, 30120: delegations of authority at 49 CFR 1.95 and 501.8)

Claudia Covell,
Acting Director, Office of Vehicle Safety Compliance.

[FR Doc. 2018-07421 Filed 4-10-18; 8:45 am]

BILLING CODE 4910-59-P